DEPARTMENT OF LABOR

Office of the Secretary

Agency Information Collection Activities; Submission for OMB Review; Comment Request; EBSA Participant Assistance Program Customer Survey

ACTION: Notice of availability; request for comments.

SUMMARY: The Department of Labor (DOL) is submitting this Employee Benefits Security Administration (EBSA)-sponsored information collection request (ICR) to the Office of Management and Budget (OMB) for review and approval in accordance with the Paperwork Reduction Act of 1995 (PRA). Public comments on the ICR are invited.

DATES: The OMB will consider all written comments that agency receives on or before May 26, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Frederick Licari by telephone at 202-693-8073, TTY 202-693-8064, (these are not toll-free numbers) or by email at DOL_PRA_PUBLIC@dol.gov.

SUPPLEMENTARY INFORMATION: This survey will collect customer satisfaction data for a sample of private citizens who call into the participant assistance program to ask about their private sector employer provided benefits such as pensions, retirement savings, and health benefits. Three types of callers will be queried:

• Those who need benefit claim assistance;

• Those who have a valid benefit claim; and

• Those who have an invalid benefit claim.

The results of the survey will be analyzed to provide actionable data that could be used to improve program performance. Examples of improved performance include, but are not limited to:

• Being more attuned to inquirers' needs—Benefits Advisors should be more adept at identifying issues that lead to benefits recoveries and enforcement leads;

• Survey data will enable National and Regional management to identify potential training needs;

• Satisfaction scores will guide EBSA leadership to determine which Regions need assistance improving customer service; and

• Scores on individual BAs will reveal high performers and allow the agency to use those BAs' techniques as best practices for program-wide improvement.

The study will include data from regional offices in Atlanta, Boston, Chicago, Cincinnati, Dallas, Kansas City, Los Angeles, New York, Philadelphia and San Francisco and District offices in Miami, Seattle and Washington. For additional substantive information about this ICR, see the related notice published in the Federal Register on January 29, 2020 (85 FR 5241).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-EBSA.

Title of Collection: EBSA Participant Assistance Program Customer Survey.

OMB Control Number: 1210-0NEW.

Affected Public: Individuals or Households.

Total Estimated Number of Respondents: 11,200.

Total Estimated Number of Responses: 11,200.

Total Estimated Annual Time Burden: 1,493 hours.

Total Estimated Annual Other Costs Burden: $0.

Authority: 44 U.S.C. 3507(a)(1)(D).

Dated: April 17, 2020.
Anthony May,
Acting Departmental Clearance Officer.

[FR Doc. 2020-08617 Filed 4-22-20; 8:45 am]

BILLING CODE 4510-29-P